DEPARTMENT OF AGRICULTURE

Farm Service Agency

Interim National Drought Council

AGENCY: Farm Service Agency, USDA.

ACTION: Notice of Interim National Drought Council meeting.

SUMMARY: The Interim National Drought Council (Interim Council) was established through a Memorandum of Understanding (MOU). It's purpose is to coordinate activities between and among Federal Agencies, States, local governments, tribes and others. The first meeting of the Interim Council was held November 9, 2000. All meetings are open to the public; however, seating is limited and available on a first-come basis.

DATES: The Interim Council will meet on January 25, 2001, in Room 233 of the Hall of the States building located at 444 North Capitol Street, NW. in Washington, DC from 10:00 a.m. to 11:30 a.m. and then from 12:30 p.m. to 3:00 p.m.. All times noted are Eastern Standard Time. This meeting will be devoted to revising the work plan and other Interim Council business.

FOR FURTHER INFORMATION CONTACT: Leona Dittus, Executive Director, Interim National Drought Council, United States Department of Agriculture (USDA), 1400 Independence Avenue, SW, Room 6701-S, STOP 0501, Washington, D.C., 20250-0501 or telephone (202) 720-3168; FAX (202) 720-9688; internet leona.dittus@usda.gov.

SUPPLEMENTARY INFORMATION: The purpose of the MOU is to establish a more comprehensive, integrated, coordinated approach toward reducing the impacts of drought through better preparedness, monitoring and prediction, risk management, and response to drought emergencies in the United States. The Interim Council will encourage cooperation and coordination between and among Federal, State, local, and tribal governments and others, relative to preparation for and response to serious drought emergencies. Activities of the Interim Council include providing coordination to: (a) Resolve drought related issues, (b) exchange information about lessons learned, and (c) improve public awareness of the need for drought planning and mitigation measures. The Interim Council is co-chaired by the Secretary of Agriculture or his designee, and a non-federal co-chair, selected from among the members who are not Federal officers or employees. Ms. Ane D. Deister, Executive Assistant to the General Manager, Metropolitan Water District of Southern California, representing urban water interests, was selected as the non-federal co-chair at the Interim Council's organizational meeting. Administrative staff support essential to the execution of the Interim Council's responsibilities shall be provided by USDA. The Interim Council will continue in effect for 5 years or until Congress establishes a permanent National Drought Council.

If special accommodations are required, please contact Leona Dittus, at the address specified above, by COB January 22, 2001.

Signed at Washington, D.C., on January 10, 2001.
George Arredondo,
Administrator, Farm Service Agency.

[FR Doc. 01-1226 Filed 1-12-01; 8:45 am]

BILLING CODE 3410-05-P